DEPARTMENT OF ENERGY

Federal Energy Regulatory Commission

[Project No. 13596-000]

McGinnis, Inc.; Notice of Preliminary Permit Application Accepted for Filing and Soliciting Comments, Motions To Intervene, and Competing Applications

December 10, 2009.

On September 29, 2009, McGinnis, Inc. filed an application for a preliminary permit, pursuant to section 4(f) of the Federal Power Act, proposing to study the feasibility of the Smithland Hydrokinetic Project, which would be located downstream of the U.S. Army Corps of Engineer's Smithland Lock and Dam on the Ohio River near the town of Hamletsburg, Pope County, Illinois; and town of Smithland, Livingston County, Kentucky. The sole purpose of a preliminary permit, if issued, is to grant the permit holder priority to file a license application during the permit term. A preliminary permit does not authorize the permit holder to perform any land disturbing activities or otherwise enter upon lands or waters owned by others without the owners' express permission.

The proposed project would consist of the following:

(1) Ten 35-kilowatt turbine generators mounted to a barge anchored in the Ohio River downstream of the Smithland Lock and Dam; (2) an armored transmission cable extending from the barge to a small shore substation; and (3) an access road needed to access the shore substation. The project would have an estimated annual generation of 1,533,000 kilowatt-hours.

Applicant Contact: Mr. Bruce D. McGinnis, Sr.; McGinnis, Inc.; P.O. Box 534; 502 Second St. Ext.; South Point, OH 45680; or phone 740-377-4391.

FERC Contact: Monte TerHaar at monte.terhaar@ferc.gov or phone 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13596) in the docket number field to access the document. For assistance, contact FERC Online Support.

Kimberly D. Bose,
Secretary.

[FR Doc. E9-29916 Filed 12-15-09; 8:45 am]

BILLING CODE 6717-01-P